DEPARTMENT OF THE INTERIOR

National Park Service

[NPS-WASO-NAGPRA-25875; PPWOCRADN0-PCU00RP16.R50000]

Native American Graves Protection and Repatriation Review Committee Notice of Public Meeting

AGENCY: National Park Service, Interior.

ACTION: Meeting notice.

SUMMARY: The National Park Service is hereby giving notice that the Native American Graves Protection and Repatriation Review Committee (Review Committee) will hold one meeting. All meetings are open to the public.

DATES: The Review Committee will meet on October 17-19, 2018, from 8:30 a.m. until approximately 5:00 p.m. (Eastern). Related deadlines for participating in the meeting are detailed in this notice.

ADDRESSES: The Review Committee will meet in the Yates Auditorium, Department of the Interior, 1849 C Street NW, Washington, DC 20240. Electronic submissions of materials or requests are to be sent to nagpra_info@nps.gov.

FOR FURTHER INFORMATION CONTACT: Melanie O'Brien, Designated Federal Officer, National Native American Graves Protection and Repatriation Act Program (2253), National Park Service, telephone (202) 354-2201, or email nagpra_info@nps.gov.

SUPPLEMENTARY INFORMATION: The Review Committee was established in section 8 of the Native American Graves Protection and Repatriation Act of 1990 (NAGPRA).

Purpose of the Meeting: The agenda will include a report from the National NAGPRA Program; the discussion of the Review Committee Report to Congress; subcommittee reports and discussion; and other topics related to the Review Committee's responsibilities under section 8 of NAGPRA. In addition, the agenda may include requests to the Review Committee for a recommendation to the Secretary of the Interior that an agreed-upon disposition of Native American human remains proceed; presentations by Indian tribes, Native Hawaiian organizations, museums, Federal agencies, associations, and individuals; and public comment. Presentation to the Review Committee by telephone may be requested but is not guaranteed. The agenda and materials for this meeting will be posted on or before September 18, 2018, at https://www.nps.gov/nagpra.

The Review Committee is soliciting presentations from Indian tribes, Native Hawaiian organizations, museums, and Federal agencies on the following two topics: (1) the progress made, and any barriers encountered, in implementing NAGPRA and (2) the outcomes of disputes reviewed by the Review Committee pursuant to 25 U.S.C. 3006 (c)(4). The Review Committee also will consider other presentations from Indian tribes, Native Hawaiian organizations, museums, Federal agencies, associations, and individuals. A presentation request must, at minimum, include an abstract of the presentation and contact information for the presenter(s). Presentation requests and materials must be received by September 4, 2018. Written comments will be accepted from any party and provided to the Review Committee. Written comments received by September 11, 2018, will be provided to the Review Committee before the meeting.

The Review Committee will consider requests for a recommendation to the Secretary of the Interior that an agreed-upon disposition of Native American human remains proceed. A disposition request must include specific information and, as applicable, ancillary materials. For details on the required information go to https://www.nps.gov/nagpra/review. Disposition requests must be received by August 14, 2018.

At this meeting, the Review Committee will not consider new requests for findings of fact related to the identity or cultural affiliation of human remains or other cultural items, or the return of such items; or facilitate the resolution of disputes. The Review Committee will consider additions to or hear presentations on previous requests. Contact the Designated Federal Officer to discuss any requests for findings of fact or resolution of disputes by August 10, 2018.

Submissions and requests should be sent to nagpra_info@nps.gov. Such items are subject to posting on the National NAGPRA Program website prior to the meeting.

General Information

Information about NAGPRA, the Review Committee, and Review Committee meetings is available on the National NAGPRA Program website at https://www.nps.gov/nagpra.

Review Committee members are appointed by the Secretary of the Interior. The Review Committee is responsible for monitoring the NAGPRA inventory and identification process; reviewing and making findings related to the identity or cultural affiliation of cultural items, or the return of such items; facilitating the resolution of disputes; compiling an inventory of culturally unidentifiable human remains that are in the possession or control of each Federal agency and museum, and recommending specific actions for developing a process for disposition of such human remains; consulting with Indian tribes and Native Hawaiian organizations and museums on matters affecting such tribes or organizations lying within the scope of work of the Review Committee; consulting with the Secretary of the Interior on the development of regulations to carry out NAGPRA; and making recommendations regarding future care of repatriated cultural items. The Review Committee's work is carried out during the course of meetings that are open to the public.

Public Disclosure of Comments: Before including your address, telephone number, email address, or other personal identifying information in your comments, you should be aware that your entire comment—including your personal identifying information—may be made publicly available at any time. While you can ask us in your comment to withhold your personal identifying information from public review, we cannot guarantee that we will be able to do so.

Authority: 5 U.S.C. Appendix 2; 25 U.S.C. 3006.

Alma Ripps,
Chief, Office of Policy.

[FR Doc. 2018-16593 Filed 8-2-18; 8:45 am]

BILLING CODE 4312-52-P